DEPARTMENT OF TRANSPORTATION

Federal Aviation Administration

14 CFR Part 39

[Docket No. FAA-2016-7425; Directorate Identifier 2014-NM-244-AD; Amendment 39-18741; AD 2016-25-15]

RIN 2120-AA64

Airworthiness Directives; Airbus Airplanes

AGENCY: Federal Aviation Administration (FAA), Department of Transportation (DOT).

ACTION: Final rule.

SUMMARY: We are superseding Airworthiness Directive (AD) 2011-17-05, for certain Airbus Model A300 B2-1C, A300 B2-203, A300 B2K-3C, A300-B4-103, A300 B4-203, and A300 B4-2C airplanes. AD 2011-17-05 required repetitive inspections in sections 13 through 18 of the fuselage between rivets of the longitudinal lap joints between frames (FRs) 18 and 80 for cracking, and repair or modification if necessary. This new AD requires a revised repetitive inspection program of all longitudinal lap joints and repairs between FRs 18 and 80 to address widespread fatigue damage (WFD). This AD was prompted by an evaluation done by the design approval holder indicating that certain sections of the longitudinal lap joints are subject to WFD; therefore, a revised inspection program is necessary. We are issuing this AD to address the unsafe condition on these products.

DATES: This AD is effective January 23, 2017.

The Director of the Federal Register approved the incorporation by reference of a certain publication listed in this AD as of November 16, 2011 (76 FR 63177, October 12, 2011).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-7425.

Examining the AD Docket

You may examine the AD docket on the Internet at http://www.regulations.gov by searching for and locating Docket No. FAA-2016-7425; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2011-17-05, Amendment 39-16769 (76 FR 63177, October 12, 2011) (“AD 2011-17-05”). AD 2011-17-05 applied to certain Airbus Model A300 B2-1C, A300 B2-203, A300 B2K-3C, A300-B4-103, A300 B4-203, and A300 B4-2C airplanes. The NPRM published in the Federal Register on July 7, 2016 (81 FR 44232). The NPRM was prompted by an evaluation done by the design approval holder indicating that certain sections of the longitudinal lap joints are subject to WFD. The NPRM proposed to continue to require repetitive inspections in sections 13 through 18 of the fuselage between rivets of the longitudinal lap joints between FRs 18 and 80 for cracking, and repair or modification if necessary. The NPRM also proposed to require a revised repetitive inspection program of all longitudinal lap joints and repairs between FRs 18 and 80 to address this WFD. We are issuing this AD to detect and correct fatigue cracking of the longitudinal lap joints of the fuselage, which could result in reduced structural integrity of the airplane.

The European Aviation Safety Agency (EASA), which is the Technical Agent for the Member States of the European Union, has issued EASA AD 2014-0265, dated December 9, 2014 (referred to after this as the Mandatory Continuing Airworthiness Information, or “the MCAI”), to correct an unsafe condition for the specified products.

The MCAI states:

Cracks were found on in-service aeroplanes in sections 13 to 18 of the fuselage between rivets of longitudinal lap joints between frames (FR) 18 and FR80.

This condition, if not detected and corrected, could affect the structural integrity of the aeroplane.

To address this unsafe condition, Airbus developed an inspection programme for the longitudinal lap joints and repairs between FR18 and FR80, and EASA issued AD 2007-0091 [which corresponds to FAA AD 2011-17-05] to require the implementation of that programme.

Since EASA AD 2007-0091 was issued, [a] new Widespread Fatigue Damage regulation has been issued. This new regulation led to the revision of the maintenance programme for the longitudinal lap joints and repairs between FR18 and FR80.

For the reasons described above, this [EASA] AD retains the requirements of EASA AD 2007-0091, which is superseded, and requires implementation of the revised inspection programme.

Required actions include repetitive inspections of the bonded inner doublers of the longitudinal lap joints in sections 13 through 18 for disbonding or corrosion, and repairing any disbonding and corrosion; a follow-on rototest or ultrasonic inspection to verify cracking, and repair of any cracking. The repetitive inspection interval ranges from 3,000 flight cycles up to 8,000 flight cycles, depending on airplane configuration. You may examine the MCAI in the AD docket on the Internet at http://www.regulations.gov by searching for and locating it in Docket No. FAA-2016-7425.

Comments

We gave the public the opportunity to participate in developing this AD. We received no comments on the NPRM or on the determination of the cost to the public.

Conclusion

We reviewed the available data and determined that air safety and the public interest require adopting this AD as proposed, except for minor editorial changes. We have determined that these minor changes:

• Are consistent with the intent that was proposed in the NPRM for correcting the unsafe condition; and

• Do not add any additional burden upon the public than was already proposed in the NPRM.

Costs of Compliance

We estimate that this AD affects 4 airplanes of U.S. registry.

Estimated Costs
Action | Labor cost | Cost per product | Cost on U.S. operators
Retained actions from AD 2011-17-05 | 3,735 work-hours × $85 per hour = $317,475 | $317,475 | $1,269,900
New inspections | 140 work-hours × $85 per hour = $11,900 | $11,900 | $47,600

We have received no definitive data that enables us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-05, Amendment 39-16769 (76 FR 63177, October 12, 2011), and adding the following new AD:

2016-25-15 Airbus: Amendment 39-18741; Docket No. FAA-2016-7425; Directorate Identifier 2014-NM-244-AD.

(a) Effective Date

This AD is effective January 23, 2017.

(b) Affected ADs

This AD replaces AD 2011-17-05, Amendment 39-16769 (76 FR 63177, October 12, 2011) (“AD 2011-17-05”).

(c) Applicability

This AD applies to Airbus Model A300 B2-1C, A300 B2-203, A300 B2K-3C, A300-B4-103, A300 B4-203, and A300 B4-2C airplanes; certificated in any category; all manufacturer serial numbers, except those on which Airbus Modification 2611 has been embodied in production.

(d) Subject

Air Transport Association (ATA) of America Code 53, Fuselage.

(e) Reason

This AD was prompted by an evaluation done by the design approval holder indicating that certain sections of the longitudinal lap joints are subject to widespread fatigue damage. We are issuing this AD to detect and correct fatigue cracking of the longitudinal lap joints of the fuselage, which could result in reduced structural integrity of the airplane.

(f) Compliance

Comply with this AD within the compliance times specified, unless already done.

(g) Retained Fuselage Inner Doubler Inspections and Repair, With Revised Formatting

This paragraph restates the requirements of paragraph (l) of AD 2011-17-05, with revised formatting. For airplanes on which any inspections of the fuselage bonded inner doublers of the longitudinal lap joints in sections 13 through 18 (except sections 16 and 17 at stringer 31 left-hand and right-hand) for disbonding and cracking have not been done as of November 16, 2011 (the effective date of AD 2011-17-05), as specified by Airbus Service Bulletin A300-53-229: Prior to the accumulation of 24,000 total flight cycles or within 15 years since new, whichever occurs first; or within 60 days after November 16, 2011; whichever occurs later; do a detailed inspection of the fuselage bonded inner doublers of the longitudinal lap joints in sections 13 through 18 (except sections 16 and 17 at stringer 31 left-hand and right-hand) for disbonding and cracking, in accordance with the Accomplishment Instructions of Airbus Service Bulletin A300-53-229, Revision 5, dated April 8, 1997. If no disbonding and no cracking are found, repeat the inspection thereafter at the applicable intervals specified in paragraph (h) of this AD.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(h) Retained Repetitive Intervals for Inspections for Disbonding and Cracking, With No Changes

This paragraph restates the repetitive intervals specified in table 1 of AD 2011-17-05, with no changes. At the applicable time specified in paragraph (h)(1) or (h)(2) of this AD, repeat the inspection required by paragraph (g) of this AD.

(1) For sections 13 and 14 as specified in Airbus Service Bulletin A300-53-229, Revision 5, dated April 8, 1997: Repeat the inspection at intervals not to exceed 7 years or 12,000 flight cycles, whichever occurs first.

(2) For sections 15 through 18 as specified in Airbus Service Bulletin A300-53-229, Revision 5, dated April 8, 1997: Repeat the inspection within 8.5 years or 12,000 flight cycles, whichever occurs first.

(i) Retained Fuselage Inner Doubler Inspections and Repair, With No Changes

This paragraph restates the requirements of paragraph (m) of AD 2011-17-05, with no changes. For airplanes on which any inspections of the fuselage bonded inner doublers of the longitudinal lap joints in sections 13 through 18 (except sections 16 and 17 at stringer 31 left-hand and right-hand) for disbonding and cracking have been done as of November 16, 2011 (the effective date of AD 2011-17-05), as specified in Airbus Service Bulletin A300-53-229; except for airplanes on which a repair of that area has been done as specified in Airbus Service Bulletin A300-53-229: Within 7 years or 12,000 flight cycles (for sections 13 and 14), or within 8.5 years or 12,000 flight cycles (for sections 15 and 18), after doing the inspection, whichever occurs first; or within 60 days after November 16, 2011, whichever occurs later, do a detailed inspection of the fuselage bonded inner doublers of the longitudinal lap joints in sections 13 through 18 (except sections 16 and 17 at stringer 31 left-hand and right-hand) for disbonding and cracking, in accordance with the Accomplishment Instructions of Airbus Service Bulletin A300-53-229, Revision 5, dated April 8, 1997. If no disbonding and no cracking are found, repeat the inspection at the applicable time specified in paragraph (h) of this AD.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(j) Retained Fuselage Inner Doubler Inspections and Repair, With No Changes

This paragraph restates the requirements of paragraph (n) of AD 2011-17-05, with no changes. For airplanes on which any inspections of the fuselage bonded inner doublers of the longitudinal lap joints in sections 16 and 17 at stringer 31 left-hand and right-hand for disbonding and cracking have not been done as of November 16, 2011 (the effective date of AD 2011-17-05), as specified in Airbus Service Bulletin A300-53-229: Prior to the accumulation of 24,000 total flight cycles or within 12 years since new, whichever occurs first; or within 60 days after November 16, 2011, whichever occurs later, do a detailed inspection of the fuselage bonded inner doublers of the longitudinal lap joints in sections 16 and 17 at stringer 31 left-hand and right-hand for disbonding and cracking, in accordance with the Accomplishment Instructions of Airbus Service Bulletin A300-53-229, Revision 5, dated April 8, 1997. If no disbonding and no cracking are found, repeat the inspection thereafter at intervals not to exceed 7 years or 12,000 flight cycles, whichever occurs first.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22. Doing a repair in accordance with Airbus Service Bulletin A300-53-229, Revision 5, dated April 8, 1997, terminates the repetitive inspections required by this paragraph for that area.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(k) Retained Fuselage Inner Doubler Inspections and Repair, With No Changes

This paragraph restates the requirements of paragraph (o) of AD 2011-17-05, with no changes. For airplanes on which any inspections of the fuselage bonded inner doublers of the longitudinal lap joints in sections 16 and 17 at stringer 31 left-hand and right-hand for disbonding and cracking have been done as of November 16, 2011, as specified in Airbus Service Bulletin A300-53-229; except airplanes on which a repair of that area has been done as specified in Airbus Service Bulletin A300-53-229: Within 7 years or 12,000 flight cycles after doing the inspection, whichever occurs first; or within 60 days after November 16, 2011; whichever occurs later; do a detailed inspection of the fuselage bonded inner doublers of the longitudinal lap joints in sections 16 and 17 at stringer 31 left-hand and right-hand for disbonding and cracking, in accordance with the Accomplishment Instructions of Airbus Service Bulletin A300-53-229, Revision 5, dated April 8, 1997. If no disbonding and no corrosion are found, repeat the inspection thereafter at intervals not to exceed 7 years or 12,000 flight cycles, whichever occurs first.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22. Doing a repair, in accordance with Airbus Service Bulletin A300-53-229, Revision 5, dated April 8, 1997, terminates the repetitive inspections required by this paragraph for that area.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(l) New Repetitive Inspections and Repair

Within 180 days after the effective date of this AD, do rototest and ultrasonic inspections, as applicable, for cracking of all longitudinal lap joints and repairs between frames 18 and 80; and repair any cracking before further flight; using a method approved by the Manager, International Branch, ANM-116, Transport Airplane Directorate, FAA; or the European Aviation Safety Agency (EASA); or Airbus's EASA Design Organization Approval (DOA). Repeat the applicable inspection, including post-repair inspections, thereafter at intervals approved by the Manager, International Branch, ANM-116, Transport Airplane Directorate, FAA; or EASA; or Airbus's EASA DOA. Accomplishing the initial inspection and applicable repairs required by this paragraph terminates the actions required by paragraphs (g) through (k) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

Refer to Mandatory Continuing Airworthiness Information (MCAI) EASA AD 2014-0265, dated December 9, 2014, for related information. This MCAI may be found in the AD docket on the Internet at http://www.regulations.gov by searching for and locating Docket No. FAA-2016-7425.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 16, 2011 (76 FR 63177, October 12, 2011).

(i) Airbus Service Bulletin A300-53-229, Revision 5, dated April 8, 1997, including Appendix A300SB/53-229, dated April 10, 1989. Only pages 1, 2, 5, 11, and 12 of Airbus Service Bulletin A300-53-229, Revision 5, dated April 8, 1997, show revision level 5 and issue date April 8, 1997; pages 3, 4-10, and 13-17 show revision level 4 and issue date March 30, 1994; and pages 1-17 of Appendix A300SB/53-229 show issue date April 10, 1989.

(ii) Reserved.

(4) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on December 1, 2016.
Michael Kaszycki,
Acting Manager, Transport Airplane Directorate, Aircraft Certification Service.

[FR Doc. 2016-29511 Filed 12-16-16; 8:45 am]

BILLING CODE 4910-13-P